DEPARTMENT OF HEALTH AND HUMAN SERVICES

Centers for Disease Control and Prevention

[CDC-2017-0072; Docket Number NIOSH-300]

Final National Occupational Research Agenda for Manufacturing

AGENCY: National Institute for Occupational Safety and Health (NIOSH) of the Centers for Disease Control and Prevention (CDC), Department of Health and Human Services (HHS).

ACTION: Notice of availability.

SUMMARY: NIOSH announces the availability of the final National Occupational Research Agenda for Manufacturing

DATES: The final document was published on January 25, 2018.

ADDRESSES: The document may be obtained at the following link: https://www.cdc.gov/niosh/nora/sectors/manuf/researchagenda.html.

FOR FURTHER INFORMATION CONTACT: Emily Novicki, M.A., M.P.H, (NORACoordinator@cdc.gov), National Institute for Occupational Safety and Health, Centers for Disease Control and Prevention, Mailstop E-20, 1600 Clifton Road NE, Atlanta, GA 30329, phone (404) 498-2581 (not a toll free number).

SUPPLEMENTARY INFORMATION: On August 23, 2017, NIOSH published a request for public review in the Federal Register [82 FR 40003] of the draft version of the National Occupational Research Agenda for Manufacturing. All comments received were reviewed and addressed where appropriate.

John Howard,
Director, National Institute for Occupational Safety and Health, Centers for Disease Control and Prevention.

[FR Doc. 2018-01906 Filed 1-30-18; 8:45 am]

BILLING CODE 4163-19-P